DEPARTMENT OF COMMERCE

National Oceanic and Atmospheric Administration

50 CFR Part 648

[Docket No. 100923469-1543-05]

RIN 0648-BA27

Fisheries of the Northeastern United States; Northeast Multispecies Fishery; Emergency Rule Extension, Georges Bank Yellowtail Flounder Catch Limit Revisions

AGENCY: National Marine Fisheries Service (NMFS), National Oceanic and Atmospheric Administration (NOAA), Commerce.

ACTION: Temporary final rule; emergency action extension and request for comments.

SUMMARY: This action extends the Georges Bank (GB) yellowtail flounder specifications for fishing year (FY) 2011 that were implemented on May 1, 2011, through emergency authority concurrent with the Framework Adjustment (FW) 45 Final Rule under the Northeast (NE) Multispecies Fishery Management Plan (FMP), which is scheduled to expire on October 24, 2011. Specifically, this temporary rule maintains the current Acceptable Biological Catch (ABC) and Annual Catch Limit (ACL) for GB yellowtail flounder for an additional 186 days, i.e., through the end of fishing year (FY) 2010 (May 1, 2011 through April 30, 2012).

DATES: The effective date of the GB yellowtail flounder specifications in the final rule published April 25, 2011 (76 FR 23042) is extended through April 30, 2012. Comments are accepted through November 7, 2011.

ADDRESSES: You may submit comments, identified by FDMS Docket Number NOAA-NMFS-2011-0237, by any one of the following methods:

• Electronic Submissions: Submit all electronic public comments via the Federal e-rulemaking portal: http://www.regulations.gov. To submit comments via the e-Rulemaking Portal, first click the “submit a comment” icon, then enter [NOAA-NMFS-2011-0237] in the keyword search. Locate the document you wish to comment on from the resulting list and click on the “Submit a Comment” icon on the right of that line.

• Mail: Paper, disk, or CD-ROM comments should be sent to Patricia A. Kurkul, Regional Administrator, National Marine Fisheries Service, 55 Great Republic Drive, Gloucester, MA 01930-2276. Mark the outside of the envelope: “Comments on NE Multispecies GB Yellowtail Flounder Specifications Emergency Rule Extension.”

• Fax: (978) 281-9135.

Instructions: Comments must be submitted by one of the above methods to ensure that the comments are received, documented, and considered by NMFS. Comments sent by any other method, to any other address or individual, or received after the end of the comment period, may not be considered. All comments received are part of the public record and will generally be posted to http://www.regulations.gov without change. All Personal Identifying Information (for example, name, address, etc.) voluntarily submitted by the commenter may be publicly accessible. Do not submit confidential business information or otherwise sensitive or protected information.

We will accept anonymous comments (enter “N/A” in the required fields, if you wish to remain anonymous). Attachments to electronic comments will be accepted in Microsoft Word, Excel, WordPerfect, or Adobe PDF formats only.

Copies of the small entity compliance guide are available from the Regional Administrator, NMFS, Northeast Regional Office, at the address above. Copies of the Environmental Assessment (EA) prepared for this rule may be found at the following Internet address: http://www.regulations.gov.

FOR FURTHER INFORMATION CONTACT: Thomas A. Warren, Fishery Policy Analyst, (978) 281-9347, fax (978) 281-9135.

SUPPLEMENTARY INFORMATION:

Background

This temporary final rule extends the revised GB yellowtail flounder catch limits implemented through emergency authority as published in the FW 45 final rule on April 25, 2011 (76 FR 23042) in order to maintain those measures through the end of FY 2010 (April 30, 2012). The April 25, 2011 final rule included detailed information on the background and reasons for the need to revise the GB yellowtail flounder catch limits from those originally proposed in the FW 45 proposed rule (76 FR 11858; March 3, 2011). The public had an opportunity to comment on the April 25, 2011 emergency measures, but no comments were submitted. We will again accept public comment on both the appropriateness of the emergency action to date, and its extension.

The emergency specifications extended through this final rule are the revised GB yellowtail flounder catch limits for FY 2011, as follows: A U.S. ABC of 1,458 mt; a total ACL of 1,416 mt; a groundfish sub-ACL of 1,142 mt; a scallop fishery sub-ACL of 200.8 mt; and an Other ACL sub-component of 73 mt. The initial emergency action modified GB yellowtail flounder catch limits from those originally proposed as a result of the passage of new legislation (International Fisheries Agreement Clarification Act).

Although the FW 45 final rule contained preliminary information regarding the more specific components of the groundfish sub-ACL (the division of the groundfish sub-ACL between sectors and the common pool and the Incidental Catch Total Allowable Catches for common pool vessels), it did not implement the final specification of these components (and this rule does not need to address those aspects of the FMP). The components of the GB yellowtail flounder groundfish sub-ACL are specified in the final rule that adjusted the FY 2011 groundfish sub-ACL components for all stocks (76 FR 34903; June 15, 2011).

No comments were received on the initial emergency rule.

Classification

We have determined that the emergency specifications extended by this temporary final rule are necessary and are consistent with the Magnuson-Stevens Fishery Conservation and Management Act and other applicable law.

The interim rule that this rule extends was determined to be not significant for purposes of E.O. 12866.

This rule is exempt from the procedures of the Regulatory Flexibility Act to prepare a regulatory flexibility analysis because the rule is issued without opportunity for prior public comment.

The supplemental Environmental Assessment (EA) prepared for the initial emergency action analyzed the impacts of the emergency specifications for the duration of a year (Supplemental EA, Revised Georges Bank Yellowtail Flounder Catch Limits for Fishing Year 2011; April 13, 2011). Therefore, the impacts of this emergency action extension have been analyzed, and are within the scope of the Finding of No Significant Impact.

Authority: 16 U.S.C. 1801 et seq.

Dated: October 3, 2011.
Eric C. Schwaab,
Assistant Administrator for Fisheries, National Marine Fisheries Service.

[FR Doc. 2011-25936 Filed 10-5-11; 8:45 am]

BILLING CODE 3510-22-P